DEPARTMENT OF COMMERCE

Foreign-Trade Zones Board

[B-21-2021]

Foreign-Trade Zone (FTZ) 99—Wilmington, Delaware; Authorization of Production Activity; AstraZeneca Pharmaceuticals LP (Pharmaceutical Products); Newark, Delaware

On March 11, 2021, AstraZeneca Pharmaceuticals LP submitted a notification of proposed production activity to the FTZ Board for its facility within Subzone 99D, in Newark, Delaware.

The notification was processed in accordance with the regulations of the FTZ Board (15 CFR part 400), including notice in the Federal Register inviting public comment (86 FR 14867-14868, March 19, 2021). On July 9, 2021, the applicant was notified of the FTZ Board's decision that no further review of the activity is warranted at this time. The production activity described in the notification was authorized, subject to the FTZ Act and the FTZ Board's regulations, including Section 400.14.

Dated: July 9, 2021.
Andrew McGilvray,
Executive Secretary.

[FR Doc. 2021-14958 Filed 7-13-21; 8:45 am]

BILLING CODE 3510-DS-P